COMMISSION ON CIVIL RIGHTS

Agenda and Notice of Public Meeting of the Massachusetts Advisory Committee

Notice is hereby given, pursuant to the provisions of the rules and regulations of the U.S. Commission on Civil Rights (Commission), and the Federal Advisory Committee Act (FACA), that a planning meeting of the Massachusetts Advisory Committee to the Commission will convene at 12:00 p.m. (EST) on Friday, February 20, 2014, at McCarter & English, located at 265 Franklin St., Boston, MA 02110. The purpose of the meeting is for the committee is to discuss its September briefing on the criminalization of school discipline, and to plan the next steps for its project on school disciplinary policies and if such policies have a disparate impact on students of color.

Members of the public are entitled to submit written comments. The comments must be received in the regional office by Thursday, March 20, 2014. Comments may be mailed to the Eastern Regional Office, U.S. Commission on Civil Rights, 1331 Pennsylvania Avenue, Suite 1150, Washington, DC 20425, faxed to (202) 376-7548, or emailed to Barbara de La Viez at ero@usccr.gov. Persons who desire additional information may contact the Eastern Regional Office at 202-376-7533.

Persons needing accessibility services should contact the Eastern Regional Office at least 10 working days before the scheduled date of the meeting.

Records generated from this meeting may be inspected and reproduced at the Eastern Regional Office, as they become available, both before and after the meeting. Persons interested in the work of this advisory committee are advised to go to the Commission's Web site, www.usccr.gov, or to contact the Eastern Regional Office at the above phone number, email or street address.

The meetings will be conducted pursuant to the provisions of the rules and regulations of the Commission and FACA.

Dated: January 22, 2013.
David Mussatt,
Acting Chief, Regional Programs Coordination Unit.

[FR Doc. 2014-01489 Filed 1-27-14; 8:45 am]

BILLING CODE 6335-01-P